DEPARTMENT OF AGRICULTURE

Rural Business—Cooperative Service

Inviting Applications for Value-Added Producer Grants

AGENCY: Rural Business—Cooperative Service, USDA.

ACTION: Notice of extension of application deadline to incorporate priority for veteran farmers and ranchers.

SUMMARY: The Rural Business—Cooperative Service (RBS) extends the original deadline (February 24, 2014) for submitting applications for grant funds to help independent producers enter into value-added activities under section 231 of the Agriculture Risk Protection Act of 2000 (Pub. L. 106-224), as amended by section 6202 of the Food, Conservation, and Energy Act of 2008 (Pub. L. 110-246) (see 7 U.S.C. 1632a) announced in a notice of funding availability (NOFA) published November 25, 2013 in Vol. 78, No. 227 of the Federal Register. This action is taken to incorporate the provision for scoring priority to applications from veteran farmers and ranchers included in Section 6203 of the Agricultural Act of 2014 (Pub. L. 113-79).

DATES: The deadline for submitting applications under the notice published November 25, 2013, is extended to April 8, 2014.

ADDRESSES: Applications may be submitted via mail, courier, or hand delivery to the relevant RD State Office or electronically via http://www.grants.gov, in accordance with instructions published in the Federal Register Notice on November 25, 2013. Contact information for RD State Offices can be found at http://www.rurdev.usda.gov/StateOfficeAddresses.html.

FOR FURTHER INFORMATION CONTACT: Grants Division, Cooperative Programs, Rural Business—Cooperative Service, United States Department of Agriculture, 1400 Independence Avenue SW., MS-3250, Room 4016-South, Washington, DC 20250-3250, or call 202-720-8460.

SUPPLEMENTARY INFORMATION:

Background and Discussion of Extension of Application Deadline

RBS published a Notice of Funding Availability (NOFA) on November 25, 2013 at 78 FR 70260 with an application deadline of February 24, 2014. A new Farm Bill, the Agricultural Act of 2014, (Pub. L. 113-79) was subsequently signed into law on February 7, 2014. RBS is extending the deadline to incorporate Farm Bill language creating a priority category for veteran farmers and ranchers. Applicants may now qualify for the award of 10 priority points in one of the following categories: Beginning Farmers or Ranchers, Socially Disadvantaged Farmers or Ranchers, or if you are an Operator of a Small or Medium-sized farm or ranch structured as a Family Farm, propose a Mid-Tier Value Chain project, as a Farmer or Rancher Cooperative, or as veteran farmer or rancher. Applicants may apply and can receive points in only one category.

The term ‘veteran farmer or rancher’ as now defined at 7 U.S.C. 1632a(b)(6) means a farmer or rancher who has served in the Armed Forces (as defined in section 101(10) of title 38 United States Code) and who (A) has not operated a farm or ranch; or (B) has operated a farm or ranch for not more than 10 years. The VAPG definition references section 2501(e) of the Food, Agriculture, Conservation, and Trade Act of 1990 (7 U.S.C. 2279(e)) that was amended by section 12201 of the Farm Bill.

To qualify for priority points for projects that contribute to increasing opportunities for veteran farmers and ranchers, applicants must submit form DD-214, Report of Separation from the U.S. Military and must meet the requirements of Beginning Farmer or Rancher at 7 CFR 4284.922(d) and in the application guides. Applicants applying under the Veteran Farmer and Rancher category must meet all other program requirements found in 7 CFR 4284, subpart J.

To ensure that all applicants are treated fairly, applicants who submitted an application in accordance with the original deadline may revise and resubmit their applications as necessary. Applicants who wish to revise their applications must resubmit their application by the extension deadline published in this Notice.

Dated: March 18, 2014.
Lillian Salerno,
Administrator, Rural Business—Cooperative Service.

[FR Doc. 2014-06668 Filed 3-24-14; 8:45 am]

BILLING CODE 3410-XY-P